ENVIRONMENTAL PROTECTION AGENCY

[FRL-9172-5]

Notice of Open Meeting of the Environmental Financial Advisory Board (EFAB)

AGENCY: Environmental Protection Agency (EPA).

ACTION: Notice.

SUMMARY: The United States Environmental Protection Agency's (EPA) Environmental Financial Advisory Board (EFAB) will hold an open meeting on August 9-10, 2010. EFAB is an EPA advisory committee chartered under the Federal Advisory Committee Act (FACA) to provide advice and recommendations to EPA on creative approaches to funding environmental programs, projects, and activities.

A meeting of the full board will be held to discuss progress with work products under EFAB's current Strategic Action Agenda and develop an action agenda to direct the Board's ongoing and new activities through FY 2011.

Environmental Finance topics expected to be discussed include: Financial Assurance: Cost Estimation; Financing EcoDistricts; State Revolving Fund Investment Options; and Investments in Clean Technology.

This meeting is open to the public, however, seating is limited. All members of the public who wish to attend the meeting must register in advance, no later than Monday, July 30, 2010.

DATES: Full Board Meeting is scheduled for August 9, 2010 from 1 p.m.-5 p.m. and August 10, 2010 from 8:30 a.m.-5 p.m.

ADDRESS: Parc 55 Hotel Wyndham, 55 Cyril Magnin Street, San Francisco, CA 94102.

REGISTRATION AND INFORMATION CONTACT: To register for this meeting or get further information, please contact Sandra Williams, U.S. EPA, at (202) 564-4999 or williams.sandra@epa.gov. For information on access or services for individuals with disabilities, please contact Sandra Williams. To request accommodations for a disability, contact Sandra Keys at least 10 days prior to the meeting to give EPA as much time as possible to process your request.

Dated: June 22, 2010.
Joshua Baylson,
Associate Chief Financial Officer, Office of the Chief Financial Officer.

[FR Doc. 2010-16627 Filed 7-7-10; 8:45 am]

BILLING CODE 6560-50-P